DEPARTMENT OF COMMERCE

Foreign-Trade Zones Board

[B-34-2025]

Foreign-Trade Zone (FTZ) 116, Notification of Proposed Production Activity; The Premcor Refining Group, Inc.; (Sustainable Aviation Fuel); Port Arthur, Texas

Valero Energy Corporation submitted a notification of proposed production activity on behalf of its affiliate The Premcor Refining Group, Inc. (Premcor) to the FTZ Board (the Board) for Premcor's facilities in Port Arthur, Texas within Subzone 116C. The notification conforming to the requirements of the Board's regulations (15 CFR 400.22) was received on June 26, 2025.

Pursuant to 15 CFR 400.14(b), FTZ production activity would be limited to the specific finished product described in the submitted notification (summarized below) and subsequently authorized by the Board. The benefits that may stem from conducting production activity under FTZ procedures are explained in the background section of the Board's website—accessible via www.trade.gov/ftz. The proposed finished product would be added to the production authority that the Board previously approved for the operation, as reflected on the Board's website.

The proposed finished product is sustainable aviation fuel (duty rate 52.5 cents/barrel).

Public comment is invited from interested parties. Submissions shall be addressed to the Board's Executive Secretary and sent to: ftz@trade.gov. The closing period for their receipt is August 11, 2025.

A copy of the notification will be available for public inspection in the “Online FTZ Information System” section of the Board's website.

For further information, contact Juanita Chen at juanita.chen@trade.gov.

Dated: June 27, 2025.
Elizabeth Whiteman,
Executive Secretary.

[FR Doc. 2025-12253 Filed 6-30-25; 8:45 am]

BILLING CODE 3510-DS-P